COMMISSION ON CIVIL RIGHTS

Notice of Public Meeting of the Guam Advisory Committee; Cancellation

AGENCY: Commission on Civil Rights.

ACTION: Notice; cancellation of virtual business meeting.

SUMMARY: The Commission on Civil Rights published a notice in the Federal Register concerning a virtual business meeting of the Guam Advisory Committee. The meeting scheduled for Tuesday, January 17, 2023, at 9:00 a.m. (ChST) is cancelled. The notice is in the Federal Register of Monday, December 19, 2022, in FR Doc. 2022-27440 in the first, second, and third columns of page 77549.

FOR FURTHER INFORMATION CONTACT: Liliana Schiller, lschiller@usccr.gov, (202) 770-1856.

Dated: January 11, 2023.
David Mussatt,
Supervisory Chief, Regional Programs Unit.

[FR Doc. 2023-00740 Filed 1-17-23; 8:45 am]

BILLING CODE P